ENVIRONMENTAL PROTECTION AGENCY

40 CFR Parts 51, 60, 61 and 63

[EPA-HQ-OAR-2008-0531; FRL-8917-3]

RIN 2060-AP23

Restructuring of the Stationary Source Audit Program

AGENCY: Environmental Protection Agency (EPA).

ACTION: Proposed rule.

SUMMARY: The action proposes amendments to the General Provisions to allow accredited providers to supply stationary source audit samples and to require sources to obtain and use these samples from the accredited providers instead of from EPA, as is the current practice. In addition, this proposed rule incorporates by reference Volume 3, “General Requirements for Environmental Proficiency Test Providers” adopted December 22, 2007, as an example of an acceptable accredited proficiency test sample provider (APTSP) technical criteria document. This document outlines the criteria an accredited provider program must meet for the samples to be acceptable.

Requirements pertaining to the audit samples have all been moved to the General Provisions and have been removed from the test methods because the current language in the test methods regarding audit samples is inconsistent from method to method. Therefore, deleting all references to audit samples in the test methods eliminates any possible confusion and inconsistencies. Under this proposed amendment, the requirement to use an audit sample during a compliance test will apply to all test methods for which a commercially available audit exists.

DATES: Comments must be received on or before July 16, 2009. Under the Paperwork Reduction Act, comments on the information collection provisions are best assured of having full effect if the Office of Management and Budget (OMB) receives a copy of your comments on or before July 16, 2009.

ADDRESSES: Submit your comments, identified by Docket ID Number EPA-HQ-OAR-2008-0531, by one of the following methods:

• http://www.regulations.gov: Follow the on-line instructions for submitting comments.

• E-mail: Comments may be sent by electronic mail (e-mail) to a-and-r-docket@epa.gov, Attention Docket ID No. EPA-HQ-OAR-2008-0531.

• Fax: Fax your comments to: 202-566-9744, Attention Docket ID No. EPA-HQ-OAR-2008-0531.

• Mail: Send your comments to: Air and Radiation Docket and Information Center, Environmental Protection Agency, Mail Code 2822T, 1200 Pennsylvania Ave., NW., Washington, DC 20460. Attention Docket ID No. EPA-HQ-OAR-2008-0531. In addition, please mail a copy of your comments on the information collection provisions to the Office of Information and Regulatory Affairs, Office of Management and Budget (OMB), Attn: Desk Officer for EPA, 725 17th St., NW., Washington, DC 20503.

• Hand Delivery or Courier: Deliver your comments to: EPA Docket Center, 1301 Constitution Ave., NW., Room 3334, Washington, DC. Such deliveries are only accepted during the Docket's normal hours of operation, and special arrangements should be made for deliveries of boxed information.

Instructions: Direct your comments to Docket ID No. EPA-HQ-OAR-2008-0531. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Restructuring of the Stationary Source Audit Program Docket, EPA/DC, EPA West Building, Room 3334, 1301 Constitution Ave., NW., Washington, DC. This Docket Facility Public Reading Room is open from 8:30 a.m. to 4:30 p.m., Monday through Friday, excluding legal holidays. The telephone number for the Public Reading Room is (202) 566-1744, and the telephone number for the Air Docket Center is (202) 566-1742.

FOR FURTHER INFORMATION CONTACT: For questions concerning today's proposed rule, contact Ms. Candace Sorrell, U.S. EPA, Office of Air Quality Planning and Standards, Air Quality Assessment Division, Measurement Technology Group (E143-02), Research Triangle Park, NC 27711; telephone number: (919) 541-1064; fax number: (919) 541-0516; e-mail address: sorrell.candace@epa.gov.

SUPPLEMENTARY INFORMATION:

I. General Information

A. Does This Action Apply to Me?

This action would apply to you if you operate a stationary source that is subject to applicable requirements to conduct compliance testing under 40 CFR parts 60, 61, and 63.

In addition, this action would apply to you if Federal, State, or local agencies take certain additional actions. For example, this action would apply if State or local agencies implement regulations using any of the stationary source compliance test methods in Appendix M of Part 51 by adopting these methods in rules or permits (either by incorporation by reference or by duplicating the method in its entirety).

The source categories and entities potentially affected include, but are not limited to, the following:

Category | NAICS ᵃ | Examples of regulated entities
Industry | 336111 336112 | Surface Coating.
Industry | 332410 | Industrial, Commercial, Institutional Steam Generating Units.
Industry | 332410 | Electric Generating Units.
Industry | 333611 | Stationary Gas Turbines.
Industry | 324110 | Petroleum Refineries.
Industry | 562213 | Municipal Waste Combustors.
Industry | 322110 | Pulp and Paper Mills.
ᵃ North American Industry Classification System.

B. What Should I Consider as I Prepare My Comments for EPA?

1. Submitting CBI. Do not submit this information to EPA through http://www.regulations.gov or e-mail. Send or deliver information identified as CBI only to the following address: Roberto Morales, OAQPS Document Control Officer (C404-02), U.S. EPA, Office of Air Quality Planning and Standards, Research Triangle Park, NC 27711, Attention Docket ID No. EPA-HQ-OAR-2008-0531. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree, suggest alternatives, and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

C. Where Can I Obtain a Copy of This Action and Other Related Information?

In addition to being available in the docket, an electronic copy of these proposed amendments is also available on the Worldwide Web (http://www.epa.gov/ttn) through the Technology Transfer Network (TTN). Following the Administrator's signature, a copy of the proposed amendment will be posted on the TTN's policy and guidance page for newly proposed or promulgated rules at http://www.epa.gov/ttn/oarpg. The TTN provides information and technology exchange in various areas of air pollution control.

D. How Is This Document Organized?

The information in this preamble is organized as follows:

I. General Information

A. Does This Action Apply to Me?

B. What Should I Consider as I Prepare My Comments for EPA?

C. Where Can I Obtain a Copy of This Document and Other Related Information?

D. How Is This Document Organized?

II. Background

III. This Action

IV. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions Concerning Regulations That Significantly Affect Energy Supply, Distribution, or Use

I. National Technology Transfer Advancement Act

J. Executive Order 12898: Federal Actions To Address Environmental Justice in Minority Populations and Low-Income Populations

II. Background

Quality assurance is an important part of evaluating the validity of compliance test data. One way of checking the quality of the data obtained during compliance tests is to use audit samples. Audit samples are samples whose true value is known to the supplier but not to the user and are analyzed alongside the samples collected in the field during the compliance test to evaluate the quality of the data. In the past, there were no private entities who supplied stationary source audit samples, so EPA provided them free of charge to regulatory agencies. Over the past few years with the emergence of field sampling and laboratory accreditation programs, there has been an increasing need for such samples and a number of private providers have emerged. EPA believes it is no longer necessary for it to supply audit samples and, therefore, has decided to restructure the audit program to allow private accredited suppliers to provide audit samples to industries for use in compliance testing at stationary source facilities.

III. This Action

This action proposes to revise the General Provisions of Parts 51, 60, 61, and 63 to allow accredited audit sample providers to supply stationary source audit samples and to require sources to obtain and use these samples from the accredited providers instead of from EPA, as is the current practice. It also revises test methods 5I, 6, 6A-C, 7, 7A-D, 8, 15A, 16A, 18, 23, 25, 25C, 25D, 26, 26A, 104, 106, 108, 108A-C, 204A-F, 306, 306A, and 308 to delete any language pertaining to audit samples. By adding language to the General Provisions of Parts 51, 60, 61 and 63, the requirement to obtain and use audits for stationary source compliance test using EPA stationary source test methods is expanded and clarified. The current General Provisions and EPA test methods are not consistent in their language concerning the use or availability of audit samples. This action will potentially increase the number of test methods required to use audit samples and will clarify how the samples are to be obtained and used. By clarifying the requirement for audit samples and expanding their availability through multiple providers, EPA believes more audits will be used during compliance tests and the overall quality of the data used for determining compliance will improve.

This action proposes minimum requirements for the audit samples, the accredited audit sample providers (AASP), and the audit sample provider acceditor (ASPA). The AASP is the company that prepares and distributes the audit samples and the ASPA is a third-party organization that will accredit and monitor the performance of the AASPs. Both the AASP and the ASPA must work with a voluntary consensus standard body using the consensus process to develop criteria documents that describe how they will function. The Federal Office of Management and Budget Circular A-119 defines a voluntary consensus standards body (VCSB) as one having the following attributes: (i) Openness; (ii) balance of interest; (iii) due process; (iv) an appeals process; and (v) consensus, which is general agreement, but not necessarily unanimity, and includes a process for attempting to resolve objections by interested parties. As long as all comments have been fairly considered, each objector is advised of the disposition of his or her objection(s) and the reason(s) why, and the consensus body members are given an opportunity to change their votes after reviewing the comments.

AASPs must be accredited by an ASPA according to a technical criteria document developed by a VCSB. There may be many AASPs and more than one ASPA and VCSB. We predict that initially there will only be one VCSB. An example of an acceptable accredited proficiency test sample provider (APTSP) technical criteria document is Volume 3, “General Requirements for Environmental Proficiency Test Providers” adopted December 22, 2007, (incorporated by reference—see § 60.17). This document specifies the requirements for providers who supply proficiency test (PT) samples for accrediting laboratories to perform analysis of water and solid waste samples and is an example of the type of technical criteria document that would be needed for providers of stationary source audits.

This action proposes language that outlines the responsibilities of the regulated source owner or operator to acquire and use an audit sample for all testing conducted to determine compliance with an air emission limit. The requirement would apply only if there is a commercially available audit for the test method used during the compliance testing. The source owner, operator or representative shall report the results for the audit sample along with a summary of the emission test results for the audited pollutant to the appropriate compliance authority.

This action proposes if there are no audit samples available from the AASPs, PT samples supplied by an accredited proficiency test sample provider (APTSP) may be used as an alternative provided that they are distributed as blind audit samples.

From a scientific standpoint, PT samples and audit samples are identical. Physically and chemically, the samples are the same. However, the purpose of the samples is slightly different. The PT samples are designed to establish the proficiency of a laboratory for performing a specific method or procedure as in a lab accreditation program. The PT samples are typically analyzed on a recurring schedule at some specified time interval that is not connected to any particular event. They are only designed to demonstrate that the laboratory has the capability to properly analyze a particular kind of sample by a particular method. Audit samples by contrast are event driven. They are designed to demonstrate that during a particular test event, the tester produced acceptable results for the method or procedure that was used during that test event. They are not analyzed on a regular schedule, but they are analyzed only during the particular event (a compliance test for example) that is being “audited”. They must be analyzed by the same analyst, using the same equipment and materials that are used to analyze the samples for which the audit is being conducted.

In addition to allowing private AASPs to provide audit samples for the stationary source audit program, this action shifts the burden of obtaining an audit sample from the compliance authority to the source. In the past, the EPA provided the samples to the compliance authorities at no cost, but this action proposes to require the source to purchase the samples from an accredited provider. The samples will vary in cost depending on the type of audit sample required; however, the cost will be a very small portion of the cost of a compliance test (approximately one percent). Based on historical data, EPA estimates that the total cost to industry to purchase audit samples will be between $100,00 to $150,000 per year at the current usage rate.

IV. Statutory and Executive Order Reviews

A. Executive Order 12866: Regulatory Planning and Review

This action is not a “significant regulatory action” under the terms of Executive Order (EO) 12866 (58 FR 51735, October 4, 1993) and is, therefore, not subject to review under the EO.

B. Paperwork Reduction Act

The information collection requirements in this proposed rule have been submitted for approval to the Office of Management and Budget (OMB) under the Paperwork Reduction Act, 44 U.S.C. 3501 et seq. The Information Collection Request (ICR) document prepared by EPA has been assigned EPA ICR number 2355.01.

A regulated emission source conducting a compliance test would purchase an audit sample from an AASP. The AASP would report the true value of the audit sample to the compliance authority (State, local or EPA Regional Office). This is a new reporting requirement. The AASP would in most cases make the report by electronic mail. A report would be made for each audit sample that the AASP sold to a regulated emission source that was conducting an emissions test to determine compliance with an emission limit.

Based on historic data, EPA estimates that there will be about 1000 audit samples sold each year generating the need for about 1000 reports which corresponds to 80 hours burden or 0.08 hour per response for reporting and recordkeeping. The estimated cost burden is $5.05 per response or an annual burden of $5,050. Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers for EPA's regulations in 40 CFR are listed in 40 CFR part 9.

To comment on the Agency's need for this information, the accuracy of the provided burden estimates, and any suggested methods for minimizing respondent burden, including the use of automated collection techniques, EPA has established a public docket for this rule, which include this ICR, under Docket ID number EPA-HQ-OAR-2008-0531. Submit any comments related to the ICR for this proposed rule to EPA and OMB. See ADDRESSES section at the beginning of this notice for where to submit comments to EPA. Send comments to OMB at the Office of Information and Regulatory Affairs, Office of Management and Budget, 725 17th Street, NW., Washington, DC 20503, Attention: Desk Office for EPA. Since OMB is required to make a decision concerning the ICR between 30 and 60 days after June 16, 2009, a comment to OMB is best assured of having its full effect if OMB receives it by July 16, 2009. The final rule will respond to any OMB or public comments on the information collection requirements contained in this proposal.

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of this rule on small entities, small entity is defined as: (1) A small business as defined by the Small Business Administration's (SBA) regulations at 13 CFR 121.201; (2) a small governmental jurisdiction that is a government of a city, county, town, school district, or special district with a population of less than 50,000; and (3) a small organization that is any not-for-profit enterprise which is independently owned and operated and is not dominant in its field.

After considering the economic impacts of this proposed rule on small entities, I certify that this action will not have a significant economic impact on a substantial number of small entities. We do not anticipate that the proposed restructuring of the audit program will result in a significant economic impact on small entities.

D. Unfunded Mandates Reform Act

This rule does not contain a Federal mandate that may result in expenditures of $100 million or more for State, local, and tribal governments, in the aggregate, or the private sector in any one year. The incremental costs associated with purchasing the audit samples (expected to be less than $1,000 per test) do not impose a significant burden on sources. Thus, this rule is not subject to the requirements of sections 202 or 205 of UMRA.

This rule is also not subject to the requirements of section 203 of UMRA because it contains no regulatory requirements that might significantly or uniquely affect small governments. This rule actually removes the responsibility of acquiring the audit samples from the government agencies to the regulated facility.

E. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This proposed rule does not have federalism implications. It will not have substantial direct effects on the States, on the relationship between the national government and the States, or on the distribution of power and responsibilities among the various levels of government, as specified in Executive Order 13132. The proposed amendments would add language to the general provisions to allow accredited providers to supply stationary source audit samples and to require sources to obtain and use these samples from the accredited providers instead of from EPA, as is the current practice. Thus, Executive Order 13132 does not apply to this rule.

F. Executive Order 13175: Consultation and Coordination With Indian Tribal Governments

This action does not have tribal implications, as specified in Executive Order 13175 (65 FR 67249, November 9, 2000) The proposed amendments would add language to the general provisions to allow accredited providers to supply stationary source audit samples and to require sources to obtain and use these samples from the accredited providers instead of from EPA, as is the current practice. Thus, Executive Order 13175 does not apply to this action.

G. Executive Order 13045: Protection of Children From Environmental Health Risks and Safety Risks

EPA interprets EO 13045 (62 FR 19885, April 23, 1997) as applying only to those regulatory actions that concern health or safety risks, such that the analysis required under section 5-501 of the EO has the potential to influence the regulation. This action is not subject to EO 13045 because it does not establish an environmental standard intended to mitigate health or safety risks.

H. Executive Order 13211: Actions Concerning Regulations That Significantly Affect Energy Supply, Distribution, or Use

This action is not subject to Executive Order 13211 (66 FR 28355 (May 22, 2001)), because it is not a significant regulatory action under Executive Order 12866.

I. National Technology Transfer and Advancement Act

Section 12(d) of the National Technology Transfer and Advancement Act of 1995 (“NTTAA”), Public Law No. 104-113 (15 U.S.C. 272 note) directs EPA to use voluntary consensus standards (VCS) in its regulatory activities unless to do so would be inconsistent with applicable law or otherwise impractical. Voluntary consensus standards are technical standards (e.g., materials specifications, test methods, sampling procedures, and business practices) that are developed or adopted by voluntary consensus standards bodies. NTTAA directs EPA to provide Congress, through OMB, explanations when the Agency decides not to use available and applicable voluntary consensus standards.

This proposed rulemaking involves technical standards. EPA proposes to incorporate by reference two consensus standards from The NELAC Institute (TNI). The first standard is TNI Standard Volume 3 entitled General Requirements for Environmental Proficiency Providers which was adopted by TNI on December 22, 2007. The second standard is TNI Standard Volume 4 entitled General Standard for an Accreditor of Environmental Proficiency Test Providers. The two documents can be obtained by downloading them fr om the TNI Web site (http://www.nelac-institute.org).

EPA welcomes comments on this aspect of the proposed rulemaking and, specifically, invites the public to identify potentially-applicable VCS and explain why such standards should be used in this regulation.

J. Executive Order 12898: Federal Actions To Address Environmental Justice in Minority Populations and Low-Income Populations

Executive Order (EO) 12898 (59 FR 7629, February 16, 1994) establishes federal executive policy on environmental justice. Its main provision directs federal agencies, to the greatest extent practicable and permitted by law, to make environmental justice part of their mission by identifying and addressing, as appropriate, disproportionately high and adverse human health or environmental effects of their programs, policies, and activities on minority populations and low-income populations in the United States.

EPA has determined that this proposed rule will not have disproportionately high and adverse human health or environmental effects on minority or low-income populations because it does not affect the level of protection provided to human health or the environment. The proposed amendments would add language to the general provisions to allow accredited providers to supply stationary source audit samples and to require sources to obtain and use these samples from the accredited providers instead of from EPA, as is the current practice.

List of Subjects

40 CFR Part 51

Administrative practice and procedure, Air pollution control, Carbon monoxide, Incorporation by reference, Intergovernmental relations, Lead, Nitrogen oxide, Ozone, Particulate matter, Reporting and recordkeeping requirements, Sulfur compounds, Volatile organic compounds.

40 CFR Part 60

Environmental protection, Administrative practice and procedure, Air pollution control, continuous emission monitors, Incorporation by reference.

40 CFR Part 61

Environmental protection, Air pollution control, Incorporation by reference.

40 CFR Part 63

Environmental protection, Administrative practice and Procedure, Air pollution control, Hazardous substances, Intergovernmental relations, Incorporation by reference, Reporting and recordkeeping requirements.

Dated: June 5, 2009.
Lisa P. Jackson,
Administrator.

For the reasons set out in the preamble, title 40, chapter I of the Code of Federal Regulations is proposed to be amended as follows:

PART 51—REQUIREMENTS FOR PREPARATION, ADOPTION, AND SUBMITTAL OF IMPLEMENTATION PLANS

1. The authority citation for part 51 continues to read as follows:

Authority: 23 U.S.C. 101; 42 U.S.C. 7401-7671q.

2. Amend Appendix M to part 51 as follows:

a. Designate the three introductory paragraphs as 1.0 through 3.0.

b. Add new introductory paragraph 4.0.

c. In Method 204A by removing Sections 7.2, 7.2.1, 7.2.2, and 7.2.3.

d. In Method 204B by removing Sections 6.2, 6.2.1, 6.2.2, and 6.2.3.

e. In Method 204C by removing Sections 6.2, 6.2.1, 6.2.2, and 6.2.3.

f. In Method 204D by removing Sections 6.2, 6.2.1, 6.2.2, and 6.2.3.

g. In Method 204E by removing Sections 6.2, 6.2.1, 6.2.2, and 6.2.3.

h. In Method 204F by removing Sections 6.3, 6.3.1, 6.3.2, 6.3.3.

Appendix M To Part 51—Recommended Test Methods for State Implementation Plans

* * * * *

4.0 Quality Assurance Procedures. The performance test shall include an external QA program which shall include, at a minimum, a test method performance audit (PA) during the performance test. The PAs consist of blind audit samples supplied by an accredited audit sample provider and analyzed during the performance test in order to provide a measure of test data bias. The audit sample must be analyzed by the same analyst using the same analytical reagents and analytical system as the compliance samples. Retests are required when there is a failure to produce acceptable results for an audit sample. However, if the audit results do not affect the compliance or noncompliance status of the affected facility, the compliance authority may waive the reanalysis requirement, further audits, or retests and accept the results of the compliance test. The compliance authority may also use the audit sample failure and the compliance test results as evidence to determine the compliance or noncompliance status of the affected facility. A blind audit sample is a sample whose value is known only to the sample provider and is not revealed to the tested facility until after they report the measured value of the audit sample. For pollutants that exist in the gas phase at ambient temperature, the audit sample shall consist of an appropriate concentration of the pollutant in air or nitrogen that can be introduced into the sampling system of the test method at the same entry point as a sample from the emission source. If no gas phase audit samples are available, an acceptable alternative is a sample of the pollutant in the same matrix that would be produced when the sample is recovered from the sampling system as required by the test method. For samples that exist only in a liquid or solid form at ambient temperature, the audit sample shall consist of an appropriate concentration of the pollutant in the same matrix that would be produced when the sample is recovered from the sampling system as required by the test method. An accredited audit sample provider (AASP) is an organization that has been accredited to prepare audit samples by an independent, third party accrediting body. If there are no audit samples available from an accredited audit sample provider, proficiency test (PT) samples supplied by an accredited PT sample provider (APTSP) may be used as an alternative provided that they are distributed as blind audit samples as defined in this paragraph. A proficiency test sample is a sample whose composition is unknown to the laboratory and is provided to test whether the laboratory can produce results within the specified acceptance range. The external QA program may also include systems audits that include the opportunity for on-site evaluation by the Administrator of instrument calibration, data validation, sample logging, and documentation of quality control data and field maintenance activities.

a. The source owner, operator, or representative of the tested facility shall obtain an audit sample, if available, from an AASP or APTSP for each test method used for regulatory compliance purposes. If the source owner, operator, or representative cannot find an audit sample for a specific method, the owner, operator, or representative shall consult the EPA Web site at the following URL, www.epa.gov/ttn/emc, to confirm whether there is a source that can supply an audit sample for that method. If the EPA Web site does not list an available audit sample at least 60 days prior to the beginning of the compliance test, the source owner, operator, or representative shall not be required to include an audit sample as part of the quality assurance program for the compliance test. When ordering an audit sample, the source owner, operator, or representative shall give the sample provider an estimate for the concentration of each pollutant that is emitted by the source and the name, address, and phone number of the compliance authority. The source owner, operator, or representative shall report the results for the audit sample along with a summary of the emission test results for the audited pollutant to the compliance authority and shall report the results of the audit sample to the AASP or the APTSP. The source owner, operator, or representative shall make both reports at the same time and in the same manner or shall report to the compliance authority first and report to the AASP or APTSP. If the method being audited is a method that allows the samples to be analyzed in the field and the tester plans to analyze the samples in the field, the tester may analyze the audit samples prior to collecting the emission samples provided a representative of the compliance authority is present at the testing site. The source owner, operator, or representative may report the results of the audit sample to the compliance authority and then report the results of the audit sample to the AASP or the APTSP prior to collecting any emission samples. The test protocol and final test report shall document whether an audit sample was ordered and utilized and the pass/fail results as applicable.

b. An AASP or APTSP shall have and shall prepare, analyze, and report the true value of audit samples in accordance with a written technical criteria document that describes how audit samples or PT samples will be prepared and distributed in a manner that will insure the integrity of the audit sample program. One acceptable APTSP technical criteria document is Volume 3, “General Requirements for Environmental Proficiency Test Providers” (incorporated by reference—see § 60.17). An acceptable technical criteria document shall contain standard operating procedures for all of the following operations:

1. Preparing the sample;

2. Confirming the true concentration of the sample;

3. Distributing the sample to the user in a manner that guarantees that the true value of the sample is unknown to the user;

4. Recording the measured concentration reported by the user and determining if the measured value is within acceptable limits;

5. The AASP or APTSP shall report the results from each audit sample to the compliance authority and to the source owner, operator, or representative. The AASP or APTSP shall make both reports at the same time and in the same manner or shall report to the compliance authority first and then report to the source owner, operator, or representative. The results shall include the name of the facility tested, the date on which the compliance test was conducted, the name of the company performing the sample collection, the name of the company that analyzed the compliance samples including the audit sample, the measured result for the audit sample, the true value of the audit sample, the acceptance range for the measured value, and whether the testing company passed or failed the audit.

6. Evaluating the acceptance limits of samples at least once every two years to determine in consultation with the voluntary consensus standard body if they should be changed;

7. Maintaining a database, accessible to the compliance authorities, of results from the audit that shall include the name of the facility tested, the date on which the compliance test was conducted, the name of the company performing the sample collection, the name of the company that analyzed the compliance samples including the audit sample, the measured result for the audit sample, the true value of the audit sample, the acceptance range for the measured value, and whether the testing company passed or failed the audit.

c. The accrediting body shall have a written technical criteria document that describes how it will insure that the AASP or APTSP is operating in accordance with the AASP or APTSP technical criteria document that describes how audit or PT samples are to be prepared and distributed. This document shall contain standard operating procedures for all of the following operations:

1. Checking audit samples to confirm their true value as reported by the AASP;

2. Performing technical systems audits of the AASP's facilities and operating procedures at least once every two years.

3. Providing standards for use by the voluntary consensus standard body to approve the accrediting body that will accredit the audit sample providers.

d. The technical criteria documents for the accredited sample providers and the accrediting body shall be developed through a public process guided by a voluntary consensus standards body (VCSB). The VCSB shall operate in accordance with the procedures and requirements in the Office of Management and Budget Circular A-119. The VCSB shall approve all accrediting bodies. The Administrator will review all technical criteria documents. If the technical criteria documents do not meet the minimum technical requirements in this Appendix M, paragraph b. through d. of this paragraph 4.0, the technical criteria documents are not acceptable and the proposed audit sample program is not capable of producing audit samples of sufficient quality to be used in a compliance test. All acceptable technical criteria documents are incorporated by reference in 40 CFR 60.17.

* * * * *

PART 60—STANDARDS OF PERFORMANCE FOR NEW STATIONARY SOURCES

3. The authority citation for Part 60 continues to read as follows:

Authority: 42 U.S.C. 7410, 7414, 7421, 7470-7479, 7491, 7492, 7601 and 7602.

4. Section 60.8 is amended by adding paragraph (g) to read as follows:

§ 60.8 Performance tests.

* * * * *

(g) The performance test shall include an external QA program which shall include, at a minimum, a test method performance audit (PA) during the performance test. The PAs consist of blind audit samples supplied by an accredited audit sample provider and analyzed during the performance test in order to provide a measure of test data bias. The audit sample must be analyzed by the same analyst using the same analytical reagents and analytical system as the compliance samples. Retests are required when there is a failure to produce acceptable results for an audit sample. However, if the audit results do not affect the compliance or noncompliance status of the affected facility, the compliance authority may waive the reanalysis requirement, further audits, or retests and accept the results of the compliance test. The compliance authority may also use the audit sample failure and the compliance test results as evidence to determine the compliance or noncompliance status of the affected facility. A blind audit sample is a sample whose value is known only to the sample provider and is not revealed to the tested facility until after they report the measured value of the audit sample. For pollutants that exist in the gas phase at ambient temperature, the audit sample shall consist of an appropriate concentration of the pollutant in air or nitrogen that can be introduced into the sampling system of the test method at the same entry point as a sample from the emission source. If no gas phase audit samples are available, an acceptable alternative is a sample of the pollutant in the same matrix that would be produced when the sample is recovered from the sampling system as required by the test method. For samples that exist only in a liquid or solid form at ambient temperature, the audit sample shall consist of an appropriate concentration of the pollutant in the same matrix that would be produced when the sample is recovered from the sampling system as required by the test method. An accredited audit sample provider (AASP) is an organization that has been accredited to prepare audit samples by an independent, third party accrediting body. If there are no audit samples available from an accredited audit sample provider, proficiency test (PT) samples supplied by an accredited PT sample provider (APTSP) may be used as an alternative provided that they are distributed as blind audit samples as defined in this paragraph. A PT sample is a sample whose composition is unknown to the laboratory and is provided to test whether the laboratory can produce results within the specified acceptance range. The external QA program may also include systems audits that include the opportunity for on-site evaluation by the Administrator of instrument calibration, data validation, sample logging, and documentation of quality control data and field maintenance activities.

(1) The source owner, operator, or representative of the tested facility shall obtain an audit sample, if available, from an AASP or APTSP for each test method used for regulatory compliance purposes. If the source owner, operator, or representative cannot find an audit sample for a specific method, the owner, operator, or representative shall consult the EPA Web site at the following URL, www.epa.gov/ttn/emc, to confirm whether there is a source that can supply an audit sample for that method. If the EPA Web site does not list an available audit sample at least 60 days prior to the beginning of the compliance test, the source owner, operator, or representative shall not be required to include an audit sample as part of the quality assurance program for the compliance test. When ordering an audit sample, the source, operator, or representative shall give the sample provider an estimate for the concentration of each pollutant that is emitted by the source and the name, address, and phone number of the compliance authority. The source owner, operator, or representative shall report the results for the audit sample along with a summary of the emission test results for the audited pollutant to the compliance authority and shall report the results of the audit sample to the AASP or the APTSP. The source owner, operator, or representative shall make both reports at the same time and in the same manner or shall report to the compliance authority first and then report to the AASP or APTSP. If the method being audited is a method that allows the samples to be analyzed in the field and the tester plans to analyze the samples in the field, the tester may analyze the audit samples prior to collecting the emission samples provided a representative of the compliance authority is present at the testing site. The source owner, operator, or representative may report the results of the audit sample to the compliance authority and report the results of the audit sample to the AASP or the APTSP prior to collecting any emission samples. The test protocol and final test report shall document whether an audit sample was ordered and utilized and the pass/fail results as applicable.

(2) An AASP or APTSP shall have and shall prepare, analyze, and report the true value of audit samples in accordance with a written technical criteria document that describes how audit samples or PT samples will be prepared and distributed in a manner that will insure the integrity of the audit sample program. One acceptable APTSP technical criteria document is Volume 3, “General Requirements for Environmental Proficiency Test Providers” (incorporated by reference—see § 60.17.) An acceptable technical criteria document shall contain standard operating procedures for all of the following operations:

(i) Preparing the sample;

(ii) Confirming the true concentration of the sample;

(iii) Distributing the sample to the user in a manner that guarantees that the true value of the sample is unknown to the user;

(iv) Recording the measured concentration reported by the user and determining if the measured value is within acceptable limits;

(v) The AASP or APTSP shall report the results from each audit sample to the compliance authority and then to the source owner, operator, or representative. The AASP or APTSP shall make both reports at the same time and in the same manner or shall report to the compliance authority first and then report to the source owner, operator, or representative. The results shall include the name of the facility tested, the date on which the compliance test was conducted, the name of the company performing the sample collection, the name of the company that analyzed the compliance samples including the audit sample, the measured result for the audit sample, the true value of the audit sample, the acceptance range for the measured value, and whether the testing company passed or failed the audit.

(vi) Evaluating the acceptance limits of samples at least once every two years to determine in cooperation with the voluntary consensus standard body if they should be changed;

(vii) Maintaining a database, accessible to the compliance authorities, of results from the audit that shall include the name of the facility tested, the date on which the compliance test was conducted, the name of the company performing the sample collection, the name of the company that analyzed the compliance samples including the audit sample, the measured result for the audit sample, the true value of the audit sample, the acceptance range for the measured value, and whether the testing company passed or failed the audit.

(3) The accrediting body shall have a written technical criteria document that describes how it will insure that the AASP or APTSP is operating in accordance with the AASP or APTSP technical criteria document that describes how audit or PT samples are to be prepared and distributed. This document shall contain standard operating procedures for all of the following operations:

(i) Checking audit samples to confirm their true value as reported by the AASP;

(ii) Performing technical systems audits of the AASP's facilities and operating procedures at least once every two years;

(iii) Providing standards for use by the voluntary consensus standard body to approve the accrediting body that will accredit the audit sample providers.

(4) The technical criteria documents for the accredited sample providers and the accrediting body shall be developed through a public process guided by a voluntary consensus standards body (VCSB). The VCSB shall operate in accordance with the procedures and requirements in the Office of Management and Budget Circular A-119. The VCSB shall approve all accrediting bodies. The Administrator will review all technical criteria documents. If the technical criteria documents do not meet the minimum technical requirements in paragraphs (g)(2) through (4) of this section, the technical criteria documents are not acceptable and the proposed audit sample program is not capable of producing audit samples of sufficient quality to be used in a compliance test. All acceptable technical criteria documents are incorporated by reference in 40 CFR 60.17.

5. In Appendix A-3 to part 60 amend Method 5I by revising Section 7.2 to read as follows:

Appendix A-3 to Part 60—Test Methods 4 through 5I

* * * * *

Method 5I—Determination of Low Level Particulate Matter Emissions from Stationary Sources

* * * * *

7.2 Standards. There are no applicable standards commercially available for Method 5I analyses.

* * * * *

6. Amend Appendix A-4 to part 60 as follows:

a. In Method 6 as follows:

i. Remove Section 7.3.6.

ii. Revise Section 9.0.

iii. Remove Sections 11.3, 11.3.1 through 11.3.3, 11.4, 11.4.1 through 11.4.4, and 12.4.

iv. Revise Section 12.1.

b. In Method 6A as follows:

i. Remove Section 11.2

ii. Revise Section 16.5.

c. In Method 6B by removing Section 11.2.

d. In Method 6C by revising Section 16.1.

e. In Method 7 as follows:

i. Remove Section 7.3.10.

ii. Revise Section 9.0.

iii. Remove Sections 11.4, 11.4.1 through 11.4.3, 11.5, 11.5.1 through 11.5.4, and 12.6.

iv. Revise Section 12.1.

f. In Method 7A as follows:

i. Revise Section 6.3.

ii. Remove Section 7.3.5.

iii. Revise Section 9.0.

iv. Remove Section 11.3.

g. In Method 7B as follows:

i. Revise Section 9.0.

ii. Remove Section 11.4.

h. In Method 7C as follows:

i. Remove Section 7.2.15.

ii. Revise Section 9.0.

iii. Remove Section 11.6.

i. In Method 7D as follows:

i. Remove Sections 7.2.6 and 11.3.

ii. Revise Section 9.0.

j. In Method 8 as follows:

i. Remove Section 7.3.1.

ii. Revise Section 9.1.

iii. Remove Sections 11.3, 11.3.1, 11.3.2, 11.3.3, 11.4, 11.4.1, 11.4.2, 11.4.3, 11.4.4, and 12.9.

iv. Revise Section 12.1.

Appendix A-4 to Part 60—Test Methods 6 through 10B

* * * * *

Method 6—Determination of Sulfur Dioxide Emissions from Stationary Sources

* * * * *

9.0 Quality Control.

Section | Quality control measure | Effect
7.1.2 | Isopropanol check | Ensure acceptable level of peroxide impurities in isopropanol.
8.2, 10.1-10.4 | Sampling equipment leak-check and calibration | Ensure accurate measurement of stack gas flow rate, sample volume.
10.5 | Barium standard solution standardization | Ensure precision of normality determination.
11.2.3 | Replicate titrations | Ensure precision of titration determinations.

* * * * *

12.1 Nomenclature.

CSO2 = Concentration of SO2, dry basis, corrected to standard conditions, mg/dscm (lb/dscf).

N = Normality of barium standard titrant, meq/ml.

Pbar = Barometric pressure, mm Hg (in. Hg).

Pstd = Standard absolute pressure, 760 mm Hg (29.92 in. Hg).

Tm = Average DGM absolute temperature, °K (°R).

Tstd = Standard absolute temperature, 293 °K (528 °R).

Va = Volume of sample aliquot titrated, ml.

Vm = Dry gas volume as measured by the DGM, dcm (dcf).

Vm(std) = Dry gas volume measured by the DGM, corrected to standard conditions, dscm (dscf).

Vsoln = Total volume of solution in which the SO2 sample is contained, 100 ml.

Vt = Volume of barium standard titrant used for the sample (average of replicate titration), ml.

Vtb = Volume of barium standard titrant used for the blank, ml.

Y = DGM calibration factor.

* * * * *

Method 6A—Determination of Sulfur Dioxide, Moisture and Carbon Dioxide Emissions from Fossil Fuel Combustion Sources

* * * * *

16.5 Sample Analysis. Analysis of the peroxide solution is the same as that described in Section 11.1.

* * * * *

Method 6C—Determination of Sulfur Dioxide Emissions from Stationary Sources (Instrumental Analyzer Procedure)

* * * * *

16.1 Alternative Interference Check. You may perform an alternative interference check consisting of at least three comparison runs between Method 6C and Method 6. This check validates the Method 6C results at each particular source category (type of facility) where the check is performed. When testing under conditions of low concentrations (<15 ppm), this alternative interference check is not allowed.

Note: The procedure described below applies to non-dilution sampling systems only. If this alternative interference check is used for a dilution sampling system, use a standard Method 6 sampling train and extract the sample directly from the exhaust stream at points collocated with the Method 6C sample probe.

(1) Build the modified Method 6 sampling train (flow control valve, two midget impingers containing 3 percent hydrogen peroxide, and dry gas meter) shown in Figure 6C-1. Connect the sampling train to the sample bypass discharge vent. Record the dry gas meter reading before you begin sampling. Simultaneously collect modified Method 6 and Method 6C samples. Open the flow control valve in the modified Method 6 train as you begin to sample with Method 6C. Adjust the Method 6 sampling rate to 1 liter per minute (.10 percent). The sampling time per run must be the same as for Method 6 plus twice the average measurement system response time. If your modified Method 6 train does not include a pump, you risk biasing the results high if you over-pressurize the midget impingers and cause a leak. You can reduce this risk by cautiously increasing the flow rate as sampling begins.

(2) After completing a run, record the final dry gas meter reading, meter temperature, and barometric pressure. Recover and analyze the contents of the midget impingers using the procedures in Method 6. Determine the average gas concentration reported by Method 6C for the run.

* * * * *

Method 7—Determination of Nitrogen Oxide Emissions from Stationary Sources

* * * * *

9.0 Quality Control.

Section | Quality control measure | Effect
10.1 | Spectrophotometer calibration | Ensure linearity of spectrophotometer response to standards.

* * * * *

12.1 Nomenclature.

A = Absorbance of sample.

A1 = Absorbance of the 100-μg NO2 standard.

A2 = Absorbance of the 200-μg NO2 standard.

A3 = Absorbance of the 300-μg NO2 standard.

A4 = Absorbance of the 400-μg NO2 standard.

C = Concentration of NOX as NO2, dry basis, corrected to standard conditions, mg/dsm³ (lb/dscf).

F = Dilution factor (i.e., 25/5, 25/10, etc., required only if sample dilution was needed to reduce the absorbance into the range of the calibration).

Kc = Spectrophotometer calibration factor.

m = Mass of NOX as NO2 in gas sample, μg.

Pf = Final absolute pressure of flask, mm Hg (in. Hg).

Pi = Initial absolute pressure of flask, mm Hg (in. Hg).

Pstd = Standard absolute pressure, 760 mm Hg (29.92 in. Hg).

Tf = Final absolute temperature of flask, °K (°R).

Ti = Initial absolute temperature of flask, °K (°R).

Tstd = Standard absolute temperature, 293 °K (528 °R).

Vsc = Sample volume at standard conditions (dry basis), ml.

Vf = Volume of flask and valve, ml.

Va = Volume of absorbing solution, 25 ml.

* * * * *

Method 7A—Determination of Nitrogen Oxide Emissions from Stationary Sources (Ion Chromatographic Method)

* * * * *

6.3 Analysis. For the analysis, the following equipment and supplies are required. Alternative instrumentation and procedures will be allowed provided the calibration precision requirement in Section 10.1.2 can be met.

* * * * *

9.0 Quality Control.

Section | Quality control measure | Effect
10.1 | Ion chromatograph calibration | Ensure linearity of ion chromatograph response to standards.

* * * * *

Method 7B—Determination of Nitrogen Oxide Emissions from Stationary Sources (Ultraviolet Spectrophotometric Method)

* * * * *

9.0 Quality Control.

Section | Quality control measure | Effect
10.1 | Spectrophotometer calibration | Ensures linearity of spectrophotometer response to standards.

* * * * *

Method 7C—Determination of Nitrogen Oxide Emissions from Stationary Sources (Alkaline Permanganate/Colorimetric Method)

* * * * *

9.0 Quality Control.

Section | Quality control measure | Effect
8.2, 10.1-10.3 | Sampling equipment leak-check and calibration | Ensure accurate measurement of sample volume.
10.4 | Spectrophotometer calibration | Ensure linearity of spectrophotometer response to standards.
11.3 | Spiked sample analysis | Ensure reduction efficiency of column.

* * * * *

Method 7D—Determination of Nitrogen Oxide Emissions from Stationary Sources—Alkaline-Permanganate/Ion Chromatographic Method

* * * * *

9.0 Quality Control.

Section | Quality control measure | Effect
8.2, 10.1-10.3 | Sampling equipment leak-check and calibration | Ensure accurate measurement of sample volume.
10.4 | Spectrophotometer calibration | Ensure linearity of spectrophotometer response to standards.
11.3 | Spiked sample analysis | Ensure reduction efficiency of column.

* * * * *

Method 8—Determination of Sulfuric Acid and Sulfur Dioxide Emissions from Stationary Sources

* * * * *

9.1 Miscellaneous Quality Control Measures.

Section | Quality control measure | Effect
7.1.3 | Isopropanol check | Ensure acceptable level of peroxide impurities in isopropanol.
8.4, 8.5, 10.1 | Sampling equipment leak-check and calibration | Ensure accurate measurement of stack gas flow rate, sample volume.
10.2 | Barium standard solution standardization | Ensure normality determination.
11.2 | Replicate titrations | Ensure precision of titration determinations.

* * * * *

12.1 Nomenclature. Same as Method 5, Section 12.1, with the following additions and exceptions:

CH2SO4 = Sulfuric acid (including SO3) concentration, g/dscm (lb/dscf).

CSO2 = Sulfur dioxide concentration, g/dscm (lb/dscf).

N = Normality of barium perchlorate titrant, meq/ml.

Va = Volume of sample aliquot titrated, 100 ml for H2SO4 and 10 ml for SO2.

Vsoln = Total volume of solution in which the sample is contained, 250 ml for the SO2 sample and 1000 ml for the H2SO4 sample.

Vt = Volume of barium standard solution titrant used for the sample, ml.

Vtb = Volume of barium standard solution titrant used for the blank, ml.

* * * * *

7. In Appendix A-5 to part 60 amend Method 15A as follows:

a. Revise Section 9.0.

b. Remove Section 11.2.

Appendix A-5 to Part 60—Test Methods 11 through 15A

* * * * *

Method 15A—Determination of Total Reduced Sulfur Emissions from Sulfur Recovery Plants in Petroleum Refineries

* * * * *

9.0 Quality Control.

Section | Quality control measure | Effect
8.5 | System performance check | Ensures validity of sampling train components and analytical procedure.
8.2, 10.0 | Sampling equipment leak-check and calibration | Ensures accurate measurement of stack gas flow rate, sample volume.
10.0 | Barium standard solution standardization | Ensures precision of normality determination.
11.1 | Replicate titrations | Ensures precision of titration determinations.

* * * * *

8. Amend Appendix A-6 to part 60 as follows:

a. Amend Method 16A as follows:

i. Revise Section 9.0.

ii. Remove Section 11.2.

b. Amend Method 18 as follows:

i. Remove Sections 7.2, 8.2.1.5.2.2, and 8.2.1.7.

ii. Revise Section 8.2.2.2.

iii. Remove Sections 8.2.2.4, and 8.2.3.2.3.

iv. Revise Section 8.2.4.2.2.

v. Remove Sections 9.2, and 13.1(b).

vi. Designate the “Gaseous Organic Sampling and Analysis Checklist” as figure 18-15, and revise newly designated figure 18-15.

Appendix A-6 to Part 60—Test Methods 16 through 18

* * * * *

Method 16A—Determination of Total Reduced Sulfur Emissions from Stationary Sources (Impinger Technique)

* * * * *

9.0 Quality Control.

Section | Quality control measure | Effect
8.5 | System performance check | Ensure validity of sampling train components and analytical procedure.
8.2, 10.0 | Sampling equipment leak-check and calibration | Ensure accurate measurement of stack gas flow rate, sample volume.
10.0 | Barium standard solution standardization | Ensure precision of normality determination.
11.1 | Replicate titrations | Ensure precision of titration determinations.

* * * * *

Method 18—Measurement of Gaseous Organic Compound Emissions by Gas Chromatography

* * * * *

8.2.2.2 Procedure. Calibrate the GC using the procedures in Section 8.2.1.5.2.1. To obtain a stack gas sample, assemble the sampling system as shown in Figure 18-12. Make sure all connections are tight. Turn on the probe and sample line heaters. As the temperature of the probe and heated line approaches the target temperature as indicated on the thermocouple readout device, control the heating to maintain a temperature greater than 110 °C. Conduct a 3-point calibration of the GC by analyzing each gas mixture in triplicate. Generate a calibration curve. Place the inlet of the probe at the centroid of the duct, or at a point no closer to the walls than 1 m, and draw source gas into the probe, heated line, and sample loop. After thorough flushing, analyze the stack gas sample using the same conditions as for the calibration gas mixture. For each run, sample, analyze, and record five consecutive samples. A test consists of three runs (five samples per run times three runs, for a total of fifteen samples). After all samples have been analyzed, repeat the analysis of the mid-level calibration gas for each compound. For each calibration standard, compare the pre- and post-test average response factors (RF) for each compound. If the two calibration RF values (pre- and post-analysis) differ by more than 5 percent from their mean value, then analyze the other calibration gas levels for that compound and determine the stack gas sample concentrations by comparison to both calibration curves (this is done by preparing a calibration curve using all the pre- and post-test calibration gas mixture values). If the two calibration RF values differ by less than 5 percent from their mean value, the tester has the option of using only the pre-test calibration curve to generate the concentration values. Record this calibration data and the other required data on the data sheet shown in Figure 18-11, deleting the dilution gas information.

Note: Take care to draw all samples and calibration mixtures through the sample loop at the same pressure.

* * * * *

8.2.4.2.2 Use a sample probe, if required, to obtain the sample at the centroid of the duct or at a point no closer to the walls than 1 m. Minimize the length of flexible tubing between the probe and adsorption tubes. Several adsorption tubes can be connected in series, if the extra adsorptive capacity is needed. Adsorption tubes should be maintained vertically during the test in order to prevent channeling. Provide the gas sample to the sample system at a pressure sufficient for the limiting orifice to function as a sonic orifice. Record the total time and sample flow rate (or the number of pump strokes), the barometric pressure, and ambient temperature. Obtain a total sample volume commensurate with the expected concentration(s) of the volatile organic(s) present and recommended sample loading factors (weight sample per weight adsorption media). Laboratory tests prior to actual sampling may be necessary to predetermine this volume. If water vapor is present in the sample at concentrations above 2 to 3 percent, the adsorptive capacity may be severely reduced. Operate the gas chromatograph according to the manufacturer's instructions. After establishing optimum conditions, verify and document these conditions during all operations. Calibrate the instrument and then analyze the emission samples.

* * * * *

BILLING CODE 6560-50-P

* * * * *

9. Amend Appendix A-7 to part 60 as follows:

a. Amend Method 23 by removing Sections 8, 8.1, 8.2, 8.3, and 8.4.

b. Amend Method 25 as follows:

i. Remove Sections 7.5, 7.5.1, and 7.5.2.

ii. Revise Section 9.0.

iii. Remove Sections 11.3, 11.3.1, 11.3.2, 11.3.3, 11.4, 11.4.1, 11.4.2, 11.4.3, and 11.4.4.

c. Amend Method 25C as follows:

i. Remove Sections 7.3, 7.3.1, and 7.3.2.

ii. Revise Section 9.1.

iii. Remove Sections 11.2, 11.2.1, 11.2.2, 11.3, 11.3.1, 11.3.2, 11.3.3, and 11.3.4.

d. Amend Method 25D by removing Sections 7.3, 7.3.1, 7.3.2, 11.3, 11.3.1, 11.3.2, 11.3.3, 11.4, 11.4.1, and 11.4.2.

Appendix A-7 to Part 60—Test Methods 19 through 25E

* * * * *

Method 25—Determination of Total Gaseous Nonmethane Organic Emissions as Carbon

* * * * *

9.0 Quality Control.

Section | Quality control measure | Effect
10.1.1 | Initial performance check of condensate recovery apparatus | Ensure acceptable condensate recovery efficiency.
10.1.2, 10.2 | NMO analyzer initial and daily performance checks | Ensure precision of analytical results.

* * * * *

Method 25C—Determination of Nonmethane Organic Compounds (NMOC) in Landfill Gases

* * * * *

9.1 Miscellaneous Quality Control Measures.

Section | Quality control measure | Effect
8.4.1 | Verify that landfill gas sample contains less than 20 percent N2 or 5 percent O2 | Ensures that ambient air was not drawn into the landfill gas sample.
10.1, 10.2 | NMOC analyzer initial and daily performance checks | Ensures precision of analytical results.

* * * * *

10. Amend Appendix A-8 to part 60 as follows:

a. Amend Method 26 as follows:

i. Remove Section 7.3.

ii. Revise Section 9.0.

iii. Remove Sections 11.2, 11.2.1, 11.2.2, 11.2.3, 11.3, 11.3.1, 11.3.2, 11.3.3, and 11.3.4.

b. Amend Method 26A as follows:

i. Remove Section 7.3.

ii. Revise the first Section 9.1.

iii. Redesignate the second Section 9.1 as 9.2.

iv. Remove Sections 11.4, 11.4.1, 11.4.2, 11.4.3, 11.5, 11.5.1, 11.5.2, 11.5.3, and 11.5.4.

Appendix A-8 to Part 60—Test Methods 26 through 29

* * * * *

Method 26—Determination of Hydrogen Halide and Halogen Emissions from Stationary Sources Non-Isokinetic Method

* * * * *

9.0 Quality Control. [Reserved.]

* * * * *

Method 26A—Determination of Hydrogen Halide and Halogen Emissions from Stationary Sources Isokinetic Method

* * * * *

9.1 Miscellaneous Quality Control Measures.

Section | Quality control measure | Effect
8.1.4, 10.1 | Sampling equipment leak-check and calibration | Ensure accurate measurement of stack gas flow rate, sample volume.

* * * * *

PART 61—NATIONAL EMISSION STANDARDS FOR HAZARDOUS AIR POLLUTANTS

11. The authority citation for Part 61 continues to read as follows:

Authority: 42 U.S.C. 7401, 7412, 7413, 7414, 7416, 7601, and 7602.

12. Section 61.13 is amended by adding paragraph (e)(1) and adding and reserving paragraph (e)(2)to read as follows:

§ 61.13 Emission tests and waiver of emission tests.

* * * * *

(e) * * *

(1) The emissions test shall include an external QA program which shall include, at a minimum, a test method performance audit (PA) during the emissions test. The PAs consist of blind audit samples supplied by an accredited audit sample provider and analyzed during the emissions test in order to provide a measure of test data bias. The audit sample must be analyzed by the same analyst using the same analytical reagents and analytical system as the compliance samples. Retests are required when there is a failure to produce acceptable results for an audit sample. However, if the audit results do not affect the compliance or noncompliance status of the affected facility, the compliance authority may waive the reanalysis requirement, further audits, or retests and accept the results of the compliance test. The compliance authority may also use the audit sample failure and the compliance test results as evidence to determine the compliance or noncompliance status of the affected facility. A blind audit sample is a sample whose value is known only to the sample provider and is not revealed to the tested facility until after they report the measured value of the audit sample. For pollutants that exist in the gas phase at ambient temperature, the audit sample shall consist of an appropriate concentration of the pollutant in air or nitrogen that can be introduced into the sampling system of the test method at the same entry point as a sample from the emission source. If no gas phase audit samples are available, an acceptable alternative is a sample of the pollutant in the same matrix that would be produced when the sample is recovered from the sampling system as required by the test method. For samples that exist only in a liquid or solid form at ambient temperature, the audit sample shall consist of an appropriate concentration of the pollutant in the same matrix that would be produced when the sample is recovered from the sampling system as required by the test method. An accredited audit sample provider (AASP) is an organization that has been accredited to prepare audit samples by an independent, third party accrediting body. If there are no audit samples available from an accredited audit sample provider, proficiency test (PT) samples supplied by an accredited PT sample provider (APTSP) may be used as an alternative provided that they are distributed as blind audit samples as defined in this paragraph. A PT sample is a sample whose composition is unknown to the laboratory and is provided to test whether the laboratory can produce results within the specified acceptance range. The external QA program may also include systems audits that include the opportunity for on-site evaluation by the Administrator of instrument calibration, data validation, sample logging, and documentation of quality control data and field maintenance activities.

(i) The source owner, operator, or representative of the tested facility shall obtain an audit sample, if available, from an AASP or APTSP for each test method used for regulatory compliance purposes. If the source owner, operator, or representative cannot find an audit sample for a specific method, the owner, operator, or representative shall consult the EPA Web site at the following URL, www.epa.gov/ttn/emc, to confirm whether there is a source that can supply an audit sample for that method. If the EPA Web site does not list an available audit sample at least 60 days prior to the beginning of the compliance test, the source owner, operator, or representative shall not be required to include an audit sample as part of the quality assurance program for the compliance test. When ordering an audit sample the source owner, operator, or representative shall give the sample provider an estimate for the concentration of each pollutant that is emitted by the source and the name, address, and phone number of the compliance authority. The source owner, operator, or representative shall report the results for the audit sample along with a summary of the emission test results for the audited pollutant to the compliance authority and shall report the results of the audit sample to the AASP or the APTSP. The source owner, operator, or representative shall make both reports at the same time and in the same manner or shall report to the compliance authority first and then report to the AASP or APTSP. If the method being audited is a method that allows the samples to be analyzed in the field and the tester plans to analyze the samples in the field, the tester may analyze the audit samples prior to collecting the emission samples provided a representative of the compliance authority is present at the testing site. The source owner, operator, or representative may report the results of the audit sample to the compliance authority and then report the results of the audit sample to the AASP or the APTSP prior to collecting any emission samples. The test protocol and final test report shall document whether an audit sample was ordered and utilized and the pass/fail results as applicable.

(ii) An AASP or APTSP shall have and shall prepare, analyze, and report the true value of audit samples in accordance with a written technical criteria document that describes how audit samples or PT samples will be prepared and distributed in a manner that will insure the integrity of the audit sample program. One acceptable APTSP technical criteria document is Volume 3, “General Requirements for Environmental Proficiency Test Providers” (incorporated by reference—see § 60.17. An acceptable technical criteria document shall contain standard operating procedures for all of the following operations:

(A) Preparing the sample;

(B) Confirming the true concentration of the sample;

(C) Distributing the sample to the user in a manner that guarantees that the true value of the sample is unknown to the user;

(D) Recording the measured concentration reported by the user and determining if the measured value is within acceptable limits;

(E) The AASP or APTSP shall report the results from each audit sample to the compliance authority and then to the source owner, operator, or representative. The AASP or APTSP shall make both reports at the same time and in the same manner or shall report to the compliance authority first and then report to the source owner, operator, or representative. The results shall include the name of the facility tested, the date on which the compliance test was conducted, the name of the company performing the sample collection, the name of the company that analyzed the compliance samples including the audit sample, the measured result for the audit sample, the true value of the audit sample, the acceptance range for the measured value, and whether the testing company passed or failed the audit;

(F) Evaluating the acceptance limits of samples at least once every two years to determine in consultation with the voluntary consensus standard body if they should be changed;

(G) Maintaining a database, accessible to the compliance authorities, of results from the audit that shall include the name of the facility tested, the date on which the compliance test was conducted, the name of the company performing the sample collection, the name of the company that analyzed the compliance samples including the audit sample, the measured result for the audit sample, the true value of the audit sample, the acceptance range for the measured value, and whether the testing company passed or failed the audit.

(iii) The accrediting body shall have a written technical criteria document that describes how it will insure that the AASP or APTSP is operating in accordance with the AASP or APTSP technical criteria document that describes how audit or PT samples are to be prepared and distributed. This document shall contain standard operating procedures for all of the following operations:

(A) Checking audit samples to confirm their true value as reported by the AASP.

(B) Performing technical systems audits of the AASP's facilities and operating procedures at least once every two years.

(C) Providing standards for use by the voluntary consensus standard body to approve the accrediting body that will accredit the audit sample providers.

(iv) The technical criteria documents for the accredited sample providers and the accrediting body shall be developed through a public process guided by a voluntary consensus standards body (VCSB). The VCSB shall operate in accordance with the procedures and requirements in the Office of Management and Budget Circular A-119. The VCSB shall approve all accrediting bodies. The Administrator will review all technical criteria documents. If the technical criteria documents do not meet the minimum technical requirements in paragraphs (e)(1)(ii) through (iv) of this section, the technical criteria documents are not acceptable and the proposed audit sample program is not capable of producing audit samples of sufficient quality to be used in a compliance test. All acceptable technical criteria documents are incorporated by reference in 40 CFR 60.17.

(2) [Reserved]

* * * * *

Appendix B—[Amended]

13. Amend Appendix B to part 61 as follows:

a. In Method 104 revise Section 9.0.

b. In Method 106 as follows:

i. Remove Sections 7.2.4, 7.2.4.1, and 7.2.4.2.

ii. Revise Section 9.0.

iii. Remove Sections 9.1, 9.2, and 11.1.

c. In Method 108 as follows:

i. Remove Section 7.3.16.

ii. Revise Section 9.1.

iii. Remove Sections 11.6, 11.6.1, 11.6.2, 11.6.3, 11.7, 11.7.1, 11.7.2, 11.7.3, and 11.7.4.

iv. Revise Section 12.1.

d. In Method 108A as follows:

i. Remove Section 7.2.1.

ii. Revise Section 9.0.

iii. Remove Sections 11.6, 11.6.1, 11.6.2, 11.6.3, 11.7, 11.7.1, 11.7.2, 11.7.3, and 11.7.4.

e. In Method 108B as follows:

i. Remove Section 7.2.5.

ii. Revise Section 9.0.

iii. Remove Section 11.5.

f. In Method 108C as follows:

i. Remove Section 7.2.10.

ii. Revise Section 9.0.

iii. Remove Section 11.3.

g. In Method 111 as follows:

i. Revise Section 9.2.

ii. Revise Section 11.0.

iii. Remove Section 11.3.

Appendix B to Part 61—Test Methods

* * * * *

Method 104—Determination of Beryllium Emissions from Stationary Sources

* * * * *

9.0 Quality Control.

Section | Quality control measure | Effect
8.4, 10.1 | Sampling equipment leak checks and calibration | Ensure accuracy and precision of sampling measurements.
10.2 | Spectrophotometer calibration | Ensure linearity of spectrophotometer response to standards.
11.5 | Check for matrix effects | Eliminate matrix effects.

* * * * *

Method 106—Determination of Vinyl Chloride Emissions from Stationary Sources

* * * * *

9.0 Quality Control.

Section | Quality control measure | Effect
10.3 | Chromatograph calibration | Ensure precision and accuracy of chromatograph.

* * * * *

Method 108—Determination of Particulate and Gaseous Arsenic Emissions

* * * * *

9.0 Quality Control.

9.1 Miscellaneous Quality Control Measures.

Section | Quality control measure | Effect
8.4, 10.1 | Sampling equipment leak-checks and calibration | Ensures accuracy and precision of sampling measurements.
10.4 | Spectrophotometer calibration | Ensures linearity of spectrophotometer response to standards.
11.5 | Check for matrix effects | Eliminates matrix effects.

* * * * *

12.1 Nomenclature.

Bws = Water in the gas stream, proportion by volume.

Ca = Concentration of arsenic as read from the standard curve, μg/ml.

Cs = Arsenic concentration in stack gas, dry basis, converted to standard conditions, g/dsm³ (gr/dscf).

Ea = Arsenic mass emission rate, g/hr (lb/hr).

Fd = Dilution factor (equals 1 if the sample has not been diluted).

I = Percent of isokinetic sampling.

mbi = Total mass of all four impingers and contents before sampling, g.

mfi = Total mass of all four impingers and contents after sampling, g.

mn = Total mass of arsenic collected in a specific part of the sampling train, μg.

mt = Total mass of arsenic collected in the sampling train, μg.

Tm = Absolute average dry gas meter temperature (see Figure 108-2), °K (°R).

Vm = Volume of gas sample as measured by the dry gas meter, dry basis, m³ (ft³).

Vm(std) = Volume of gas sample as measured by the dry gas meter, corrected to standard conditions, m³ (ft³).

Vn = Volume of solution in which the arsenic is contained, ml.

Vw(std) = Volume of water vapor collected in the sampling train, corrected to standard conditions, m³ (ft³).

ΔH = Average pressure differential across the orifice meter (see Figure 108-2), mm H2O (in. H2O).

* * * * *

Method 108A—Determination of Arsenic Content in Ore Samples from Nonferrous Smelters

* * * * *

9.0 Quality Control.

Section | Quality control measure | Effect
10.2 | Spectrophotometer calibration | Ensure linearity of spectrophotometer response to standards.
11.5 | Check for matrix effects | Eliminate matrix effects.

* * * * *

Method 108B—Determination of Arsenic Content in Ore Samples from Nonferrous Smelters

* * * * *

9.0 Quality Control.

Section | Quality control measure | Effect
10.2 | Spectrophotometer calibration | Ensure linearity of spectrophotometer response to standards.
11.4 | Check for matrix effects | Eliminate matrix effects.

* * * * *

Method 108C—Determination of Arsenic Content in Ore Samples from Nonferrous Smelters (Molybdenum Blue Photometric Procedure)

* * * * *

9.0 Quality Control.

Section | Quality control measure | Effect
10.2 | Calibration curve preparation | Ensure linearity of spectrophotometric response to standards.

* * * * *

Method 111—Determination of Polonium-210 Emissions from Stationary Sources

* * * * *

9.2 Miscellaneous Quality Control Measures.

Section | Quality control measure | Effect
10.1 | Standardization of alpha spectrometry system | Ensure precision of sample analyses.
10.3 | Standardization of internal proportional counter | Ensure precise sizing of sample aliquot.
11.1, 11.2 | Determination of procedure background and instrument background | Minimize background effects.

* * * * *

11.0 Analytical Procedure.

Note: Perform duplicate analyses of all samples, including background counts and Method 5 samples. Duplicate measurements are considered acceptable when the difference between them is less than two standard deviations as described in EPA 600/4-77-001 or subsequent revisions.

* * * * *

PART 63—NATIONAL EMISSIONS STANDARDS FOR HAZARDOUS AIR POLLUTANTS FOR SOURCE CATEGORIES

14. The authority citation for part 63 continues to read as follows:

Authority: 42 U.S.C. 7401 et seq.

15. Section 63.7 is amended by revising (c)(2)(iii) to read as follows:

§ 63.7 Performance testing requirements.

* * * * *

(c) * * *

(2) * * *

(iii) The external QA program shall include, at a minimum, a test method performance audit (PA) during the performance test. The PAs consist of blind audit samples supplied by an accredited audit sample provider and analyzed during the performance test in order to provide a measure of test data bias. The audit sample must be analyzed by the same analyst using the same analytical reagents and analytical system as the compliance samples. Retests are required when there is a failure to produce acceptable results for an audit sample. However, if the audit results do not affect the compliance or noncompliance status of the affected facility, the compliance authority may waive the reanalysis requirement, further audits, or retests and accept the results of the compliance test. The compliance authority may also use the audit sample failure and the compliance test results as evidence to determine the compliance or noncompliance status of the affected facility. A blind audit sample is a sample whose value is known only to the sample provider and is not revealed to the tested facility until after they report the measured value of the audit sample. For pollutants that exist in the gas phase at ambient temperature, the audit sample shall consist of an appropriate concentration of the pollutant in air or nitrogen that can be introduced into the sampling system of the test method at the same entry point as a sample from the emission source. If no gas phase audit samples are available, an acceptable alternative is a sample of the pollutant in the same matrix that would be produced when the sample is recovered from the sampling system as required by the test method. For samples that exist only in a liquid or solid form at ambient temperature, the audit sample shall consist of an appropriate concentration of the pollutant in the same matrix that would be produced when the sample is recovered from the sampling system as required by the test method. An accredited audit sample provider (AASP) is an organization that has been accredited to prepare audit samples by an independent, third party accrediting body. If there are no audit samples available from an accredited audit sample provider, proficiency test (PT) samples supplied by an accredited PT sample provider (APTSP) may be used as an alternative provided that they are distributed as blind audit samples as defined in this paragraph. A proficiency test sample is a sample whose composition is unknown to the laboratory and is provided to test whether the laboratory can produce results within the specified acceptance range. The external QA program may also include systems audits that include the opportunity for on-site evaluation by the Administrator of instrument calibration, data validation, sample logging, and documentation of quality control data and field maintenance activities.

(A) The source owner, operator, or representative of the tested facility shall obtain an audit sample, if available, from an AASP or APTSP for each test method used for regulatory compliance purposes. If the source owner, operator, or representative cannot find an audit sample for a specific method, the owner, operator, or representative shall consult the EPA Web site at the following URL, www.epa.gov/ttn/emc, to confirm whether there is a source that can supply an audit sample for that method. If the EPA Web site does not list an available audit sample at least 60 days prior to the beginning of the compliance test, the source owner, operator, or representative shall not be required to include an audit sample as part of the quality assurance program for the compliance test. When ordering an audit sample the source owner, operator, or representative shall give the sample provider an estimate for the concentration of each pollutant that is emitted by the source and the name, address, and phone number of the compliance authority. The source owner, operator, or representative shall report the results for the audit sample along with a summary of the emission test results for the audited pollutant to the compliance authority and shall report the results of the audit sample to the AASP or the APTSP. The source owner, operator, or representative shall make both reports at the same time and in the same manner or shall report to the compliance authority first and then report to the AASP or APTSP. If the method being audited is a method that allows the samples to be analyzed in the field and the tester plans to analyze the samples in the field, the tester may analyze the audit samples prior to collecting the emission samples provided a representative of the compliance authority is present at the testing site. The source owner, operator, or representative may report the results of the audit sample to the compliance authority and then report the results of the audit sample to the AASP or the APTSP prior to collecting any emission samples. The test protocol and final test report shall document whether an audit sample was ordered and utilized and the pass/fail results as applicable.

(B) An AASP or APTSP shall have and shall prepare, analyze, and report the true value of audit samples in accordance with a written technical criteria document that describes how audit samples or PT samples will be prepared and distributed in a manner that will insure the integrity of the audit sample program. One acceptable APTSP technical criteria document is Volume 3, “General Requirements for Environmental Proficiency Test Providers” (incorporated by reference—see § 60.17. An acceptable technical criteria document shall contain standard operating procedures for all of the following operations:

(1) Preparing the sample;

(2) Confirming the true concentration of the sample;

(3) Distributing the sample to the user in a manner that guarantees that the true value of the sample is unknown to the user;

(4) Recording the measured concentration reported by the user and determining if the measured value is within acceptable limits;

(5)(i) The AASP or APTSP shall report the results from each audit sample to the compliance authority and then to the source owner, operator, or representative. The AASP or APTSP shall make both reports at the same time and in the same manner or shall report to the compliance authority first and then report to the source owner, operator, or representative. The results shall include the name of the facility tested, the date on which the compliance test was conducted, the name of the company performing the sample collection, the name of the company that analyzed the compliance samples including the audit sample, the measured result for the audit sample, the true value of the audit sample, the acceptance range for the measured value, and whether the testing company passed or failed the audit.

(ii) If the compliance authority does not report the results of the audit to the tested facility within five business days, the AASP or APTSP as appropriate must report the pass-fail results to the tested facility.

(6) Evaluating the acceptance limits of samples at least once every two years to determine in consultation with the voluntary consensus standard body if they should be changed.

(7) Maintaining a database, accessible to the compliance authorities, of results from the audit that shall include the name of the facility tested, the date on which the compliance test was conducted, the name of the company performing the sample collection, the name of the company that analyzed the compliance samples including the audit sample, the measured result for the audit sample, the true value of the audit sample, the acceptance range for the measured value, and whether the testing company passed or failed the audit.

(C) The accrediting body shall have a written technical criteria document that describes how it will insure that the AASP or APTSP is operating in accordance with the AASP or APTSP technical criteria document that describes how audit or PT samples are to be prepared and distributed. This document shall contain standard operating procedures for all of the following operations:

(1) Checking audit samples to confirm their true value as reported by the AASP.

(2) Performing technical systems audits of the AASP's facilities and operating procedures at least once every two years.

(3) Providing standards for use by the voluntary consensus standard body to approve the accrediting body that will accredit the audit sample providers.

(D) The technical criteria documents for the accredited sample providers and the accrediting body shall be developed through a public process guided by a voluntary consensus standards body (VCSB). The VCSB shall operate in accordance with the procedures and requirements in the Office of Management and Budget Circular A-119. The VCSB shall approve all accrediting bodies. The Administrator will review all technical criteria documents. If the technical criteria documents do not meet the minimum technical requirements in paragraphs (c)(2)(iii)(B) through (C) of this section, the technical criteria documents are not acceptable and the proposed audit sample program is not capable of producing audit samples of sufficient quality to be used in a compliance test. All acceptable technical criteria documents are incorporated by reference in 40 CFR 60.17.

* * * * *

Appendix A—[Amended]

16. Amend Appendix A to Part 63 as follows:

a. In Method 306 by removing Sections 7.5, 7.5.1, 7.5.2, 9.1.8, 9.1.8.1, 9.1.8.2, 9.1.8.3, 9.1.9, 9.1.9.1, 9.1.9.2, 9.1.9.3, 9.1.9.4, 9.2.8, 9.2.8.1, 9.2.8.2, 9.2.8.3, 9.2.9, 9.2.9.1, 9.2.9.2, 9.2.9.3, 9.2.9.4, 9.3.6, 9.3.6.1, 9.3.6.2, 9.3.6.3, 9.3.7, 9.3.7.1, 9.3.7.2, 9.3.7.3, and 9.3.7.4.

b. In Method 306A by removing Sections 7.5, 7.5.1, and 7.5.2.

c. In Method 308 by removing Sections 9.2, 9.3, 9.4, and 9.5.

[FR Doc. E9-13726 Filed 6-15-09; 8:45 am]

BILLING CODE 6560-50-P